DEPARTMENT OF DEFENSE

Department of the Army; Corps of Engineers

Intent To Prepare a Draft Environmental Impact Statement for the Pearl River Watershed, MS, Project

AGENCY: Department of the Army, U.S. Army Corps of Engineers, DOD.

ACTION: Notice of intent.

SUMMARY: The primary study area comprises the Pearl River Basin between River Mile (RM) 270.0 just south of Byram, MS, and RM 301.77 at the dam of Ross Barnett Reservoir. Municipalities within the study area include Jackson, Flowood, Pearl, and Richland, MS. The study area includes parts of three counties—Madison, Hinds, and Rankin. Major tributaries of the Pearl River within the study area include Richland, Caney, Lynch, Town, and Hanging Moss Creeks. The primary focus of the project is to alleviate flooding in the study area, determine the feasibility of continued Federal involvement in developing and implementing a solution, and evaluate features designed to alleviate water resource problems in the study area. The local cost-sharing project sponsor is the Rankin-Hinds Pearl River Flood and Drainage Control District.

DATES: A public scoping meeting will be held in Jackson, MS, at the Mississippi Agriculture, Forestry, and Aviation Museum, on February 23, 2004, at 6 p.m.

FOR FURTHER INFORMATION CONTACT: Questions about the proposed action and Draft Environmental Impact Statement (EIS) should be directed to Ms. Karen Dove-Jackson (telephone (601) 631-7136) or Vicksburg District, 4155 Clay Street, ATTN: CEMVK-PP-PQ, Vicksburg, MS 39183-3435.

SUPPLEMENTARY INFORMATION: This project is authorized by congressional resolutions adopted May 9, 1979. These authorizations read as follows:

“Resolved by the Committee on Public Works and Transportation of the House of Representatives, United States, That the Board of Engineers for Rivers and Harbors is hereby requested to review the reports of the Chief of Engineers on Pearl River Basin, Mississippi and Louisiana, published as House Document Number 282, Ninety-Second Congress, Second Session, and other pertinent reports, with a particular view toward determining whether any further improvements for flood damage prevention and related purposes are advisable at this time. The alternatives are to be reviewed with local interests to insure a viable, locally supported project. Resolved by the Committee on Public Works and Transportation of the House of Representatives, United States, That the Board of Engineers for Rivers and Harbors is hereby requested to review the report of the Chief of Engineers on the Pearl River and Tributaries, Mississippi, contained in House Document 441, 86th Congress, and other reports with a view to determining whether measures for prevention of flood damages and related purposes are advisable at this time, in Rankin County, Mississippi. Resolved by the Committee on Environment and Public Works of the United States Senate, That the Board of Engineers for Rivers and Harbors, created under section 3 of the River and Harbor Act, approved June 13, 1902, and is hereby requested to review the reports of the Chief of Engineers on Pearl River Basin, Mississippi and Louisiana, submitted in House Document Numbered 92-282, 92nd Congress, 2nd Session, and other pertinent reports with a view to determining whether any further improvements for flood damage prevention and related purposes are warranted at this time.”

1. A reconnaissance study was initiated in 1989 and a favorable report was completed in 1990 for the Pearl River Watershed, MS, Project. The local sponsor executed a Feasibility Cost-Sharing Agreement (FCSA) with the U.S. Army Corps of Engineers (Corps) in September 1991 to pursue alternative solutions. The resulting recommended plan documented in a January 1996 draft report was a comprehensive levee system to provide protection from a flood event of 1979 magnitude. The 1979 flood event in Jackson is the maximum flood of record. The frequency of this flood in Jackson was estimated at approximately a 200-year event. Study actions were suspended in July 1998, and the final feasibility report was never completed. Lack of local support for the recommended plan, questions over operation of the Ross Barnett Reservoir, and downstream concerns over flooding and bank caving were primary issues. In 1996, local interests proposed the LeFleur Lakes Flood Control Plan, consisting of upper and lower lakes along the Pearl River south of the Ross Barnett Reservoir, as an alternative to the comprehensive levee plan. The lakes would extend from the Ross Barnett Reservoir outlet downstream along the Pearl River to approximately 1 mile southwest of Interstate 20. The combined lakes would cover approximately 4,800 acres at normal operating levels, and weirs at both the upper and lower lakes would regulate flow. The plan is supported locally by community and business leaders due to its commercial development aspects and potential for cost recovery. An independent evaluation of the LeFleur Lakes Flood Control Plan was conducted from June-December 2000 by an Architect-Engineer firm. The valuation indicated that the LeFleur Lakes Plan could reduce Pearl River flooding in the Jackson area, as would the levee plan. The Feasibility Cost Sharing Agreement, necessary for study resumption, was signed with the non-Federal sponsor, Rankin-Hinds Pearl River Flood and Drainage Control District, on 15 October 2003. Studies will include updating the previously proposed levee plans presented in the aformentioned January 1996 draft report and an analysis of the LeFleur Lakes flood control plan. Studies will also include investigations of levees for south Jackson and Richland as a component of the LeFleur Lakes Plan. The District Engineer has decided to prepare a Draft EIS to investigate measures to alleviate flooding in the study area and determine the feasibility of continued Federal involvement in developing and implementing a solution.

2. The feasibility study for Pearl River Watershed, MS, will be conducted to fully evaluate a range of alternatives to provide a comprehensive plan for flood control. Alternative development and analysis as currently planned will be limited to updating of previously proposed levee plans and an evaluation of the LeFleur Lakes Plan.

3. A public scoping meeting will be held in Jackson, MS (see DATES). Significant issues identified during this scoping process will be analyzed in depth in the Draft EIS. The Natural Resources Conservation Service; U.S. Forest Service; Environmental Protection Agency; U.S. Fish and Wildlife Service; Mississippi Department of Environmental Quality; and Mississippi Department of Wildlife, Fisheries and Parks will be invited to become cooperating agencies. Federally recognized Indian tribes will also be invited to become cooperators. These agencies and tribes will be asked to participate in the review of data and the feasibility report and appendixes.

4. Upon completion, the Draft EIS will be distributed for agency and public review and comment. Additionally, a public meeting will be held to present results of the Draft EIS evaluations and the recommended plan.

5. The DEIS is estimated to be completed in October of the year 2005.

Dated: January 22, 2004.
Douglas J. Kamien,
Chief, Planning, Programs, and Project Management Division.

[FR Doc. 04-2500 Filed 2-4-04; 8:45 am]

BILLING CODE 3710-PU-M